NATIONAL SCIENCE FOUNDATION

Proposal Review Panel for Materials Research; Notice of Meeting

In accordance with the Federal Advisory Committee Act (Pub. L. 92-463 as amended), the National Science Foundation announces the following meeting:

Name: Site visit review of the Materials Research Science and Engineering Center (MRSEC) at the University of Pennsylvania (Penn) by NSF Division of Materials Research (DMR) Proposal Review Panel for Materials Research, #1203.

Dates & Times: Monday, November 16, 2009; 6 p.m.-9 p.m.

Tuesday, November 17, 2009; 7:45 a.m.-9 p.m.

Wednesday, November 18, 2009; 7:45 a.m.-3:30 p.m.

Place: University of Pennsylvania, Philadelphia, PA.

Type of Meeting: Part-open.

Contact Person: Dr. William Brittain, Program Director, Materials Research Science and Engineering Centers Program, Division of Materials Research, Room 1065, National Science Foundation, 4201 Wilson Boulevard, Arlington, VA 22230, Telephone (703) 292-5039.

Purpose of Meeting: To provide advice and recommendations concerning further support of the MRSEC at the University of Pennsylvania.

Agenda:

Monday, November 16, 2009

6 p.m.-7:30 p.m. Closed—Panel Briefing.

7:30 p.m.-9 p.m. Open—Review of Penn MRSEC.

Tuesday, November 17, 2009

7:45 a.m.-4:45 p.m. Open—Review of the Penn MRSEC.

4:15 p.m.-6 p.m. Closed—Executive Session.

6 p.m.-7 p.m. Open—Poster Session.

7 p.m.-9 p.m. Open—Dinner.

Wednesday, Nov. 18, 2009

8 a.m.-9 a.m. Closed—Executive session.

9 a.m.-9:45 a.m. Open—Review of the Penn MRSEC.

9:45 a.m.-3:30 p.m. Closed—Executive Session, Draft and Review Report.

Reason for Closing: The work being reviewed may include information of a proprietary or confidential nature, including technical information; financial data, such as salaries and personal information concerning individuals associated with the proposals. These matters are exempt under 5 U.S.C. 552b(c), (4) and (6) of the Government in the Sunshine Act.

Dated: October 14, 2009.
Susanne Bolton,
Committee Management Officer.

[FR Doc. E9-25034 Filed 10-16-09; 8:45 am]

BILLING CODE 7555-01-P